DEPARTMENT OF ENERGY

Federal Energy Regulatory Commission

[Docket No. CP02-6-000]

Colorado Interstate Gas Company; Notice of Application

October 15, 2001.

Take notice that on October 5, 2001, Colorado Interstate Gas Company (CIG), a Delaware corporation, Post Office Box 1087, Colorado Springs, Colorado 80944, filed in Docket No. CP02-6-000, an application pursuant to Section 7(c) of the Natural Gas Act (NGA) and Part 157 of the Federal Energy Regulatory Commission's Regulations (Commission), for a certificate of public convenience and necessity authorizing CIG to construct certain pipeline facilities and miscellaneous appurtenant facilities and to operate them in interstate commerce as a part of CIG's existing interstate transmission system, all as more fully set forth in the application which is on file with the Commission and open to public inspection. Copies of this filing are on file with the Commission and are available for public inspection. This filing may also be viewed on the web at http://www.ferc.gov using the “RIMS” link, select “Docket #” and follow the instructions (call 202-208-2222 for assistance).

CIG states that this project, in its entirety, will be referred to as the “Raton Basin 2002 Expansion Project.” CIG states that it proposes to construct and operate facilities necessary to transport additional volumes of approximately 57.8 MMcf (55 MDth) per day of natural gas out of the Raton Basin Area in Colorado and New Mexico. In addition, CIG states that it proposes to construct and operate facilities south of its Keyes Compressor Station to allow Raton Basin shippers to deliver incremental quantities of gas to interconnections with the interstate pipeline systems of El Paso Natural Gas Company and Northern Natural Gas Company. To accomplish this, CIG states that it proposes to construct the following facilities:

(1) 25.61 miles of 16-inch O.D. pipeline loop of CIG's existing Campo Lateral; this loop line would extend from the outlet of CIG's Trinidad Compressor Station in Section 25, Township 32 South, Range 63 West to a point 3,590 feet east of County Road 129 in Section 24, Township 33 South, Range 59 West, all in Las Animas County, Colorado.

(2) 28.14 miles of 16-inch O.D. pipeline loop of CIG's existing Campo Lateral; this loop line would extend from the outlet of CIG's Kim Compressor Station in Section 31, Township 32 South, Range 54 West, Las Animas County, Colorado to the Harrison/USA 2 track in Section 26, Township 32 South, Range 50 West, Baca County, Colorado;

(3) 14.40 miles of 20-inch O.D. pipeline loop of CIG's existing Line 3A; this loop line would extend from the outlet of CIG's Keyes Compressor Station in Section 17, Township 5 North, Range 7 East to County Road E0210 in Section 20, Township 3 North, Range 8 East, all in Cimarron County, Oklahoma.

CIG states that the Campo Lateral loop line segments will increase the take-away capacity from the Raton Basin Area by approximately 57.8 MMcf (55 MDth) per day. CIG further states that the Line 3A loop line will facilitate the delivery of incremental volumes to points on the southern end of its transmission system.

In addition to the facilities proposed in the instant application, CIG states that it will undertake the replacement of meter facilities at the Baker and Dumas Meter Stations, pursuant to its blanket certificate authority, to accommodate the delivery of incremental volumes from the Raton Basin Area.

CIG states that it conducted an open season in July 2000 which resulted in long term contracts for incremental capacity of 85 MDth per day. These contract quantities are being accommodated through a recently completed expansion project pursuant to authorization granted in Docket No. CP00-452-000. CIG further states that this open season produced contracts for an additional 55 MDth per day of incremental capacity to accommodate future development of reserves in the Raton Basin Area. Finally, CIG states that it held an open season in July 2001 which produced no requests for additional capacity out of the Raton Basin Area. Thus, CIG states that the facilities proposed herein are designed solely to accommodate the incremental 55 MDth per day of capacity resulting from the July 2000 open season.

CIG states that the total cost of the proposed facilities for the Raton 2002 Expansion Project is $26,896,800. The combination of existing and incremental entitlements represent 100 percent of CIG's capacity out of the Raton Basin Area through the Campo Lateral. CIG is proposing rolled-in treatment for the expansion out of the Raton Basin Area.

Any questions regarding this application should be directed to Robert T. Tomlinson, Director, Regulatory Affairs, at (719) 520-3788, Colorado Interstate Gas Company, Post Office Box 1087, Colorado Springs, Colorado 80944.

There are two ways to become involved in the Commission's review of this project. First, any person wishing to obtain legal status by becoming a party to the proceedings for this project should, on or before November 5, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-26376 Filed 10-18-01; 8:45 am]

BILLING CODE 6717-01-P